DEPARTMENT OF AGRICULTURE

Forest Service

Wallowa-Whitman National Forest, Oregon; Wallowa-Whitman National Forest Travel Management Plan; Withdrawal

AGENCY: Forest Service, Agriculture (USDA).

ACTION: Notice; withdrawal.

SUMMARY: The Wallowa-Whitman National Forest is withdrawing its notice of intent to prepare an environmental impact statement (EIS) for the Wallowa-Whitman Travel Management Project. The original notice of intent was published in the Federal Register on May 3, 2007, and the notice of availability for the draft EIS was published on June 19, 2009. The Wallowa-Whitman National Forest's decision to withdraw the notice of intent is based on prioritization of agency resources toward forest plan revision.

FOR FURTHER INFORMATION CONTACT: Questions concerning this notice should be directed to Wallowa-Whitman Forest Supervisor, Shaun McKinney, at shaun.mckinney@usda.gov or (503) 273-2413.

Individuals who use telecommunications devices for the hearing impaired may call 711 to reach the Telecommunications Relay Service, 24 hours a day, every day of the year, including holidays.

JoLynn Anderson,
Federal Register Liaison.

[FR Doc. 2024-28920 Filed 12-9-24; 8:45 am]

BILLING CODE 3411-15-P